DEPARTMENT OF COMMERCE

National Oceanic and Atmospheric Administration

RIN 0648-XD607

Marine Mammals; File No. 18824

AGENCY: National Marine Fisheries Service (NMFS), National Oceanic and Atmospheric Administration (NOAA), Commerce.

ACTION: Notice; issuance of permit.

SUMMARY: Notice is hereby given that a permit has been issued to Briana Witteveen, Ph.D., University of Alaska, Fairbanks, Kodiak Seafood and Marine Science Center, 118 Trident Way, Kodiak, AK, 99615, to conduct research on humpback (Megaptera novaeangliae); killer (Orcinus orca); gray (Eschrichtius robustus); North Pacific Right (Eubaelana japonica); fin (Balaenoptera physalus); sei (B. borealis); minke whales (B. acutorostrata); blue (B. musculus); and sperm whales (Physeter macrocephalus). Additionally, harbor (Phocoena phocoena) and Dall's porpoises (P. dalli), Pacific white-sided dolphins (Lagenorhynchus obliquidens), Northern fur (Callorhinus ursinus) and harbor seals (Phoca vitulina), and Steller sea lions (Eumetopias jubatus) may be incidentally harassed.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Jennifer Skidmore or Courtney Smith, (301) 427-8401.

SUPPLEMENTARY INFORMATION: On November 21, 2014, notice was published in the Federal Register (79 FR 69432) that a request for a permit to conduct research on the above listed species had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The permit authorizes non-lethal take using vessels to: Collect identification photographs; record vocalizations; conduct biopsy sampling; collect prey parts and sloughed skin; attach suction-cup tags; and document behavioral response to acoustic deterrents. Research may occur year-round within the Gulf of Alaska. The purpose of this research is to improve understanding of the foraging behavior, prey use, and habitat overlap among sympatric whale species throughout their habitat. The permit is valid through December 1, 2020.

In compliance with the National Environmental Policy Act of 1969 (42 U.S.C. 4321 et seq.), a final determination has been made that the activity proposed is categorically excluded from the requirement to prepare an environmental assessment or environmental impact statement.

As required by the ESA, issuance of this permit was based on a finding that such permit: (1) Was applied for in good faith; (2) will not operate to the disadvantage of such endangered species; and (3) is consistent with the purposes and policies set forth in section 2 of the ESA.

Dated: December 29, 2015.
Julia Harrison,
Chief, Permits and Conservation Division, Office of Protected Resources, National Marine Fisheries Service.

[FR Doc. 2015-33183 Filed 1-5-16; 8:45 am]

BILLING CODE 3510-22-P